DEPARTMENT OF TRANSPORTATION

Federal Aviation Administration

14 CFR Part 71

[Docket No. FAA-2005-23276; Airspace Docket No. 05-AAL-41]

Establishment of Class E Airspace; Minchumina, AK

AGENCY: Federal Aviation Administration (FAA), DOT.

ACTION: Final Rule; correction.

SUMMARY: This action corrects an error in the airspace description contained in a Final Rule that was published in the Federal Register on Wednesday, April 5, 2006 (71 FR 16997). Airspace Docket No. 05-AAL-41.

DATES: Effective Date: 0901 UTC, June 8, 2006.

FOR FURTHER INFORMATION CONTACT: Gary Rolf, AAL-538G, Federal Aviation Administration, 222 West 7th Avenue, Box 14, Anchorage, AK 99513-7587; telephone number (907) 271-5898; fax: (907) 271-2850; e-mail: gary.ctr.rolf@faa.gov. Internet address: http://www.alaska.faa.gov/at.

SUPPLEMENTARY INFORMATION:

History

Federal Register Document 06-3249, Airspace Docket No. 05-AAL-41, published on Wednesday, April 5, 2006 (71 FR 16997), listed the legal description as a revision to Class E airspace at Minchumina, AK. The airspace is new and the legal description should be written accordingly. This action corrects that error.

Correction to Final Rule

Accordingly, pursuant to the authority delegated to me, the airspace description of the Class E airspace published in the Federal Register, Wednesday, April 5, 2006 (71 FR 16997), (FR Doc 06-3249, page 16997, column 3) is corrected as follows:

§ 71.1 [Corrected]

* * * * *

AAL AK E5 Minchumina, AK [New]

Minchumina, AK

(Lat. 63°53′10″ N., Long. 152°18′07″ W.)

That airspace extending upward from 700 feet above the surface within a 7-mile radius of the Minchumina Airport.

* * * * *

Issued in Anchorage, AK, on April 14, 2006.
Anthony M. Wylie,
Manager, Safety, Area Flight Service Operations.

[FR Doc. 06-3859 Filed 4-21-06; 8:45 am]

BILLING CODE 4910-13-P